FEDERAL COMMUNICATIONS COMMISSION

Notice of Public Information Collection(s) being Reviewed by the Federal Communications Commission

November 8, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 19, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0287.

Title: Section 78.69, Station Records.

Form No.: N/A.

Type of Review: Extension of a currently approved collection.

Respondents: Businesses or other for-profit.

Number of Respondents: 1,618.

Estimated Time Per Response: .50 hours per week (26 hours a year).

Frequency of Response: Rcordkeeping requirement.

Total Annual Burden: 42,068 hours.

Total Annual Cost: N/A.

Needs and Uses: Section 78.69 requires that licensees of cable relay stations (CARS) maintain various records, including but not limited to records pertaining to transmissions, unscheduled interruptions to transmissions, maintenance, observations, inspections and repairs. Station records are required to be maintained for a period of not less than two years. The records kept pursuant to this rule section provide a history of station operations and are reviewed by Commission staff during field investigations to ensure that proper operation of the station is being conducted.

OMB Control No.: 3060-0853.

Title: Receipt of Service Confirmation Form, and Adjustment of Funding Commitment, and Certification by Administrative Authority to Billed Entity of Compliance with Children's Internet Protection Act—Universal Service for Schools and Libraries.

Form No.: FCC Forms 479, 486 and 500.

Type of Review: Revision of a currently approved collection.

Respondents: Not-for-profit institutions, and businesses or other for-profit.

Number of Respondents: 40,000.

Estimated Time Per Response: 15.37 hours per response (avg.).

Frequency of Response: Recordkeeping and reporting requirements, and third party disclosure requirement.

Total Annual Burden: 75,000 hours.

Total Annual Cost: N/A.

Needs and Uses: Section 1271 and related sections of the Children's Internet Protection Act (CIPA) provide that in order to be eligible under section 254 of the Communications Act of 1934, as amended (the Act), to receive discounted Internet access, Internet services, and internal connection services, schools and libraries that have computers with Internet access must have in place certain Internet safety policies. FCC Forms 479, 486 and 500 are used to implement the requirements of CIPA and section 254.

Federal Communications Commission.
Magalie Roman Salas,
Secretary.

[FR Doc. 01-28770 Filed 11-16-01; 8:45 am]

BILLING CODE 6712-01-P